DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for flood-plain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground modified | Communities affected
Iredell County, North Carolina and Incorporated Areas
Docket No.: FEMA-D-7800 and FEMA-D-7660
Back Creek | At the Rowan/Iredell County boundary | +760 | Unincorporated Areas of Iredell County, Town of Mooresville.
| Approximately 100 feet downstream of Oakridge Farm Highway/NC Highway 150 | +801
(North) | Approximately 1,500 feet upstream of the confluence with Third Creek | +799 | Unincorporated Areas of Iredell County, City of Statesville.
| Approximately 1,400 feet upstream of Arey Road (State Road 1337) | +811
Tributary 1 | Approximately 500 feet upstream of the confluence with Back Creek | +760 | Unincorporated Areas of Iredell County.
| Approximately 1.1 miles upstream of River Hill Road (State Road 2166) | +787
Beaver Creek | At the confluence with Fifth Creek | +731 | Unincorporated Areas of Iredell County.
| Approximately 1.7 miles upstream of River Hill Road (State Road 2166) | +772
Tributary | At the confluence with Beaver Creek | +740 | Unincorporated Areas of Iredell County.
| Approximately 0.8 mile upstream of the confluence with Beaver Creek | +752
Beaverdam Creek (West) | Approximately 250 feet downstream of the Rowan/Iredell County boundary | +814 | Unincorporated Areas of Iredell County.
| Approximately 30 feet upstream of the upstream-most Rowan/Iredell County boundary | +851
Bell Branch | At the confluence with South Yadkin River | +697 | Unincorporated Areas of Iredell County.
| Approximately 2.4 miles upstream of Woodleaf Road (State Road 1003) | +752
Big Kennedy Creek | At the confluence with Hunting Creek | +762 | Unincorporated Areas of Iredell County.
| At the Iredell/Yadkin County boundary | +847
Brushy Creek | At the confluence with Hunting Creek | +897 | Unincorporated Areas of Iredell County.
| Approximately 0.7 mile upstream of the confluence of Pasture Bottom Creek | +1,034
Buffalo Shoals Creek | At the confluence with Catawba River | +765 | Unincorporated Areas of Iredell County
| Approximately 0.5 mile upstream of New Sterling Road | +876
Camel Branch | At the confluence with Rocky Creek (into South Yadkin River) | +829 | Unincorporated Areas of Iredell County.
| Approximately 1,600 feet upstream of Jericho Road (State Road 1849) | +866
Tributary 1 | At the confluence with Camel Branch | +841 | Unincorporated Areas of Iredell County.
| Approximately 0.5 mile upstream of the confluence with Camel Branch | +858
Catawba River | Approximately 0.6 mile downstream of Buffalo Shoals Road | +762 | Unincorporated Areas of Iredell County
| At the downstream side of Lookout Shoals Dam | +781
Coddle Creek | At the Iredell/Cabarrus/Rowan County boundary | +674 | Unincorporated Areas of Iredell County, Town of Mooresville.
| Approximately 0.4 mile upstream of the confluence with Coddle Creek Tributary 8 | +779
Tributary 5 | At the confluence with Coddle Creek | +695 | Unincorporated Areas of Iredell County.
| Approximately 1.2 miles upstream of the confluence with Coddle Creek | +730
Tributary 6 | At the confluence with Coddle Creek | +737 | Unincorporated Areas of Iredell County.
| Approximately 1,600 feet upstream of the confluence with Coddle Creek | +749
Tributary 7 | At the confluence with Coddle Creek | +759 | Unincorporated Areas of Iredell County, Town of Mooresville.
| Approximately 0.4 mile upstream of the confluence with Coddle Creek | +779
Tributary 8 | At the confluence with Coddle Creek | +762 | Unincorporated Areas of Iredell County, Town of Mooresville.
| Approximately 0.5 mile upstream of the confluence with Coddle Creek | +783
Cornelius Creek (Lake Norman Cornelius Creek) | Approximately 0.6 mile downstream of Cornelius Road | +760 | Unincorporated Areas of Iredell County, Town of Mooresville.
| Approximately 500 feet upstream of Rankin Hill Road | +769
Dishmon Creek | At the confluence with Rocky Creek (into South Yadkin River) | +1,068 | Unincorporated Areas of Iredell County.
| Approximately 1.1 mile upstream of the confluence with Rocky Creek (into South Yadkin River) | +1,094
Dutchman Creek | At the confluence with Kinder Creek | +717 | Unincorporated Areas of Iredell County.
| Approximately 0.8 mile upstream of Tomlin Road (State Road 1843) | +839
Tributary 6 | Approximately 100 feet downstream of the Iredell/Davie County boundary | +820 | Unincorporated Areas of Iredell County.
| Approximately 120 feet downstream of Sandy Springs Road (State Road 2105) | +909
Dye Creek | At the confluence with Rocky River | +704 | Unincorporated Areas of Iredell County, Town of Mooresville.
| Approximately 280 feet upstream of East McLelland Avenue | +832
Tributary | At the confluence with Dye Creek | +739 | Town of Mooresville.
| Approximately 1.3 miles upstream of Briarcliff Road | +808
East Fork Creek | At the confluence with Coddle Creek | +674 | Unincorporated Areas of Iredell County.
| Approximately 400 feet upstream of Linwood Road (State Road 1150) | +712
Fifth Creek | At the confluence with South Yadkin River | +703 | Unincorporated Areas of Iredell County.
| Approximately 570 feet upstream of Whites Farm Road (State Road 1911N) | +832
Fourth Creek | Approximately 1,000 feet downstream of the Iredell/Rowan County boundary | +729 | Unincorporated Areas of Iredell County, City of Statesville.
| Approximately 0.4 mile downstream of Antietam Road (State Road 1562) | +915
Tributary 6 | At the confluence with Fourth Creek | +731 | Unincorporated Areas of Iredell County.
| Approximately 0.5 mile upstream of the confluence with Fourth Creek | +737
Tributary 7 | At the confluence with Fourth Creek | +740 | Unincorporated Areas of Iredell County.
| Approximately 0.5 mile upstream of the confluence with Fourth Creek | +746
Tributary 8 | At the confluence with Fourth Creek | +748 | Unincorporated Areas of Iredell County.
| Approximately 0.9 mile upstream of the confluence with Fourth Creek | +763
Free Nancy Branch | At the confluence with Fourth Creek | +792 | City of Statesville.
| Approximately 250 feet upstream of North Race Street | +852
Greasy Creek | At the confluence with Third Creek | +741 | Unincorporated Areas of Iredell County.
| Approximately 1.8 mile upstream of the confluence with Third Creek | +770
Goble Creek | At the confluence with Buffalo Shoals Creek | +827 | Unincorporated Areas of Iredell County.
| Approximately 1.4 miles upstream of I-40 | +853
Harve Creek | At the confluence with South Yadkin River | +834 | Unincorporated Areas of Iredell County.
| Approximately 0.5 mile upstream of the confluence with South Yadkin River | +860
Hunting Creek | At the Iredell/Davie County boundary | +724 | Unincorporated Areas of Iredell County.
| Approximately 0.4 mile upstream of Warren Bridge Road (State Road 1708) | +898
I-L Creek | Approximately 0.4 mile upstream of the confluence with Third Creek | +752 | Unincorporated Areas of Iredell County, Town of Troutman.
| Approximately 0.4 mile upstream of Patterson Street | +909
Kinder Creek | At the confluence with South Yadkin River | +713 | Unincorporated Areas of Iredell County.
| Approximately 1.1 miles upstream of Old Mocksville Road (State Road 2158) | +731
Tributary 1 | At the confluence with Kinder Creek | +713 | Unincorporated Areas of Iredell County.
| Approximately 0.5 mile upstream of Vaughn Mill Road (State Road 2145) | +727
Tributary 1A | At the confluence with Kinder Creek Tributary 1 | +713 | Unincorporated Areas of Iredell County.
| Approximately 0.4 mile upstream of the confluence with Kinder Creek Tributary 1 | +728
Little Creek (North) | At the Iredell/Davie County boundary | +798 | Unincorporated Areas of Iredell County.
| Approximately 500 feet downstream of Hayes Farm Road (State Road 2144) | +823
Little Creek (South) | At the Iredell/Rowan County boundary | +748 | Unincorporated Areas of Iredell County.
| Approximately 800 feet upstream of Iredell/Rowan County boundary | +755
Little Rocky Creek | At the confluence with Patterson Creek | +824 | Unincorporated Areas of Iredell County.
| Approximately 80 feet downstream of Hams Grove Road (State Road 2017) | +906
Tributary 1 | At the confluence with Little Rocky Creek | +851 | Unincorporated Areas of Iredell County.
| Approximately 0.7 mile upstream of the confluence with Little Rocky Creek | +876
Long Branch | At the confluence with North Little Hunting Creek | +773 | Unincorporated Areas of Iredell County.
| Approximately 600 feet upstream of Barnard Mill Road (State Road 1824) | +898
Morrison Creek | Approximately 250 feet upstream of the confluence with Fourth Creek | +798 | Unincorporated Areas of Iredell County, City of Statesville.
| Approximately 1,820 feet upstream of Old Wilkesboro Road (State Road 1645) | +845
North Little Hunting Creek | At the confluence with Hunting Creek | +771 | Unincorporated Areas of Iredell County.
| At the Iredell/Yadkin County boundary | +813
Norwood Creek | Approximately 0.6 mile downstream of State Park Road (SR 1321) | +761 | Unincorporated Areas of Iredell County.
| Approximately 0.9 mile upstream of Ivey Ostwalt Road | +801
Olin Creek | At the confluence with Patterson Creek | +796 | Unincorporated Areas of Iredell County.
| Approximately 600 feet upstream of Eupeptic Springs Road (State Road 1858) | +907
Pasture Bottom Creek | At the confluence with Brushy Creek | +992 | Unincorporated Areas of Iredell County.
| Approximately 1.0 mile upstream of the confluence with Brushy Creek | +1,035
Patterson Creek | At the confluence with Rocky Creek (into South Yadkin River) | +789 | Unincorporated Areas of Iredell County.
| Approximately 0.4 mile upstream of the confluence of Patterson Creek Tributary 2 | +916
Tributary 1 | At the confluence with Patterson Creek | +813 | Unincorporated Areas of Iredell County.
| Approximately 530 feet downstream of Bussell Road (State Road 1894) | +828
Tributary 2 | At the confluence with Patterson Creek | +896 | Unincorporated Areas of Iredell County.
| Approximately 0.7 mile upstream of the confluence with Patterson Creek | +920
Powder Spring | At the confluence with Norwood Creek | +780 | Unincorporated Areas of Iredell County.
| Approximately 0.4 mile upstream of Pilgrim Circle | +901
Branch | Approximately 0.4 mile downstream of State Park Road (SR 1321) | +761 | Unincorporated Areas of Iredell County, Town of Troutman.
| Approximately 1.3 miles upstream of Hicks Creek Road | +800
Reeder Creek | At the confluence with Lake Norman (Catawba River) | +764 | Unincorporated Areas of Iredell County.
| Approximately 1,100 feet upstream of Rosebud Lane | +821
Tributary 1 | At the confluence with Reeder Creek | +782 | Unincorporated Areas of Iredell County.
| Approximately 200 feet upstream of railroad | +803
Reeds Creek | Approximately 150 feet downstream of U.S. Highway 21 | +761 | Unincorporated Areas of Iredell County, Town of Mooresville.
| Approximately 0.6 mile upstream of West Plaza Drive | +808
Tributary 2 | Upstream side of East Plaza Drive | +808 | Unincorporated Areas of Iredell County, Town of Mooresville.
| Approximately 0.5 mile upstream of East Plaza Drive | +825
Tributary 3 | At the confluence with Reeds Creek Tributary 2 | +817 | Town of Mooresville.
| Approximately 0.4 mile upstream of the confluence with Reeds Creek Tributary 2 | +844
Rocky Creek | At the upstream side of Perth Road | +760 | Unincorporated Areas of Iredell County, Town of Troutman.
| Approximately 1.1 miles upstream of Perth Road | +774
Rocky Creek (into South Yadkin River) | At the confluence with South Yadkin River | +732 | Unincorporated Areas of Iredell County.
| Approximately 1.3 miles upstream of Branton Road (State Road 1601) | +1,115
Rocky River | At the Iredell/Mecklenberg/Cabarrus County boundary | +688 | Unincorporated Areas of Iredell County, Town of Mooresville.
| Approximately 2.1 miles upstream of Coddle Creek Highway | +827
Tributary 12 | At the Iredell/Mecklenburg County boundary | +691 | Unincorporated Areas of Iredell County.
| Approximately 1.2 miles upstream of the confluence with Rocky River | +727
Shinns Creek | At the confluence with Weathers Creek | +768 | Unincorporated Areas of Iredell County, Town of Troutman.
| Approximately 2.8 miles upstream of Weathers Creek Road (State Road 2379 S) | +901
Sills Creek | At the Iredell/Rowan County boundary | +813 | Unincorporated Areas of Iredell County.
| Approximately 1,000 feet upstream of the Iredell/Rowan County boundary | +825
Snow Creek | At the confluence with South Yadkin River | +769 | Unincorporated Areas of Iredell County.
| Approximately 100 feet upstream of the Alexander/Iredell County boundary | +1,013
South Fork Withrow Creek | At the confluence with Weathers Creek and Withrow Creek | +746 | Unincorporated Areas of Iredell County.
| Approximately 0.5 mile upstream of Winthrow Creek Road (State Road 2379 S) | +791
South Yadkin River | At the Davie/Iredell/Rowan County boundary | +697 | Unincorporated Areas of Iredell County.
| Approximately 100 feet upstream of the Alexander/Iredell County boundary | +843
Tributary 6 | At the confluence with South Yadkin River | +709 | Unincorporated Areas of Iredell County.
| Approximately 0.5 mile upstream of the confluence with South Yadkin River | +709
Tributary 7 | At the confluence with South Yadkin River | +713 | Unincorporated Areas of Iredell County.
| Approximately 1,940 feet upstream of the confluence with South Yadkin River | +713
Tributary 8 | At the confluence with South Yadkin River | +716 | Unincorporated Areas of Iredell County.
| Approximately 150 feet downstream of White Oak Branch Road (State Road 2162 W) | +716
Third Creek | Approximately 100 feet downstream of the Iredell/Rowan County boundary | +722 | Unincorporated Areas of Iredell County, City of Statesville, Town of Troutman.
| Approximately 400 feet upstream of the Iredell/Alexander County boundary | +915
Tributary 1 | At the confluence with Third Creek | +724 | Unincorporated Areas of Iredell County.
| Approximately 1,900 feet upstream of Knox Farm Road (State Road 2363) | +735
Tributary 2 | At the confluence with Third Creek | +725 | Unincorporated Areas of Iredell County.
| Approximately 0.8 mile upstream of the confluence with Third Creek | +740
Tributary 3 | At the confluence with Third Creek | +730 | Unincorporated Areas of Iredell County.
| Approximately 0.6 mile upstream of Cornflower Road | +752
Tributary 3A | At the confluence with Third Creek Tributary 3 | +730 | Unincorporated Areas of Iredell County.
| Approximately 0.6 mile upstream of the confluence with Third Creek Tributary 3 | +744
Tributary 3B | At the confluence with Third Creek Tributary 3 | +741 | Unincorporated Areas of Iredell County.
| Approximately 0.7 mile upstream of the confluence with Third Creek Tributary 3 | +757
Tributary 4 | At the confluence with Third Creek | +894 | Unincorporated Areas of Iredell County.
| Approximately 0.4 mile upstream of the confluence with Third Creek | +904
Tributary 1 | At the confluence with Fourth Creek | +770 | City of Statesville.
| Approximately 2,000 feet upstream of the confluence with Fourth Creek | +771
Tributary 2 | Approximately 700 feet upstream of the confluence with Third Creek | +805 | Unincorporated Areas of Iredell County, City of Statesville.
| Approximately 0.4 mile upstream of Johnson Drive | +863
Tributary 2A | Approximately 500 feet upstream of the confluence with Third Creek | +815 | City of Statesville.
| Approximately 0.8 mile upstream of Newton Drive | +910
Tributary 3 | At the confluence with Fourth Creek | +785 | Unincorporated Areas of Iredell County, City of Statesville.
| Approximately 1.2 miles upstream of Interstate 40 | +839
Tributary 4 | Approximately 1,000 feet upstream of the confluence with Third Creek | +798 | City of Statesville.
| Approximately 130 feet downstream of Cochran Street | +858
Tributary 5 | Approximately 650 feet upstream of the confluence with Third Creek | +772 | City of Statesville.
| Approximately 0.8 mile upstream of the confluence with Third Creek | +866
Tributary 6 | Approximately 500 feet upstream of the confluence with Third Creek | +764 | City of Statesville.
| Approximately 0.6 mile upstream of the confluence of Tributary 6B | +853
Tributary 6A | At the confluence with Tributary 6 | +817 | City of Statesville.
| Approximately 900 feet upstream of I-77 Highway | +843
Tributary 6A1 | At the confluence with Tributary 6A | +817 | City of Statesville.
| Approximately 0.4 mile upstream of Tributary 6A | +857
Tributary 6A2 | At the confluence with Tributary 6A | +827 | City of Statesville.
| Approximately 1,200 feet upstream of Tributary 6A | +846
Tributary 6B | At the confluence with Tributary 6 | +822 | City of Statesville.
| Approximately 0.3 mile upstream of the confluence of Tributary 6B1 | +859
Tributary 6B1 | At the confluence with Tributary 6B | +829 | City of Statesville.
| Approximately 880 feet upstream of the confluence with Tributary 6B | +841
Tuckers Creek | At the confluence with Patterson Creek | +878 | Unincorporated Areas of Iredell County.
| Approximately 1.7 miles upstream of the confluence with Patterson Creek | +942
Weathers Creek | At the confluence with South Fork Withrow Creek and Withrow Creek | +746 | Unincorporated Areas of Iredell County.
| Approximately 1.4 miles upstream of Westmoreland Road (State Road 2390) | +837
Tributary 1 | At the confluence with Weathers Creek | +757 | Unincorporated Areas of Iredell County.
| Approximately 0.6 mile upstream of the confluence with Weathers Creek | +773
West Branch Rocky River | At the Iredell/Mecklenberg County boundary | +687 | Unincorporated Areas of Iredell County, Town of Mooresville.
| Approximately 0.5 mile upstream of Timber Road | +794
Tributary | At the confluence with West Branch Rocky River | +713 | Unincorporated Areas of Iredell County, Town of Mooresville.
| Approximately 0.9 mile upstream of Mott Road | +750
Tributary 1 | At the confluence with West Branch Rocky River | +695 | Unincorporated Areas of Iredell County, Town of Mooresville.
| Approximately 0.7 mile upstream of Midway Lake Road (State Road 1137) | +734
Tributary 2 | At the confluence with West Branch Rocky River | +763 | Town of Mooresville.
| Approximately 0.6 mile upstream of Timber Road | +806
Westmoreland Creek | At the confluence with Weathers Creek | +761 | Unincorporated Areas of Iredell County.
| Approximately 0.5 mile upstream of the confluence with Weathers Creek | +771
Withrow Creek | At the Rowan/Iredell County boundary | +743 | Unincorporated Areas of Iredell County.
| At the confluence of South Fork Withrow Creek and Weathers Creek | +746
Woodleaf Branch (West) | Approximately 50 feet downstream of the Rowan/Iredell County boundary | +765 | Unincorporated Areas of Iredell County.
| Approximately 450 feet upstream of the Rowan/Iredell County boundary | +767
* National Geodetic Vertical Datum.
+ North American Vertical Datum.
# Depth in feet above ground.
ADDRESSES
City of Statesville
Maps are available for inspection at City of Statesville Planning Department, 301 South Center Street, Statesville, North Carolina.
Town of Mooresville
Maps are available for inspection at Town of Mooresville Planning Department, 413 North Main Street, Mooresville, North Carolina.
Town of Troutman
Maps are available for inspection at the Troutman Town Hall, 400 North Eastway Drive, Troutman, North Carolina 28166.
Unincorporated Areas of Iredell County
Maps are available for inspection at the Iredell County Planning Department, City Hall, 227 South Center Street, Statesville, North Carolina 28687.

(Catalog of Federal Domestic Assistance No. 97.022, “Flood Insurance.”)

Dated: October 1, 2007.
David I. Maurstad,
Federal Insurance Administrator of the National Flood Insurance Program, Department of Homeland Security, Federal Emergency Management Agency.

[FR Doc. E7-19837 Filed 10-5-07; 8:45 am]

BILLING CODE 9110-12-P